DEPARTMENT OF HEALTH AND HUMAN SERVICES

Centers for Disease Control and Prevention

Public Health Security and Bioterrorism Preparedness and Response Act Delegation of Authority

Notice is hereby given that I have delegated to the Director, Centers for Disease Control and Prevention (CDC), with authority to redelegate, the following authorities vested in the Secretary of Health and Human Services, under Title III of the Public Health Service (PHS) Act and the Public Health Security and Bioterrorism Preparedness and Response (PHSBPR) Act of 2002 (Pub. L. 107-188) as amended hereafter, insofar as these authorities pertain to the functions assigned to the CDC:

• PHS Act, Title III, Section 351A (42 U.S.C. 262a), excluding sections (i), (g)(3) and (g)(4) as provided in § 201 of the Act; and

• PHSBPR Act, Title II, Subtitle C, Section 221 (7 U.S.C. 8411).

This delegation excludes the authority to submit reports to the Congress, but should be exercised under the Department's existing delegation of authority and policy on regulations.

This delegation is effective upon signature. In addition, I hereby affirm and ratify any actions taken by you or your subordinates which involved the exercise of the authorities delegated herein prior to the effective day of the delegation.

Dated: November 8, 2006.
Michael O. Leavitt,
Secretary.

[FR Doc. 06-9263 Filed 11-17-06; 8:45 am]

BILLING CODE 4160-18-M